CORPORATION FOR NATIONAL AND COMMUNITY SERVICE

45 CFR Part 2553

RIN 3045-AA29

Retired and Senior Volunteer Program; Amendments

AGENCY: Corporation for National and Community Service.

ACTION: Final rule.

SUMMARY: These amendments to the regulations governing the Retired and Senior Volunteer Program (RSVP) modify provisions concerning the allowability of certain volunteer expense items. The specific amendments are as follows: §§ 2553.43 and 2553.73(d) are modified to allow project funds, including the required non-Federal share, to be used to reimburse volunteers for expenses, including transportation costs, incurred while performing volunteer assignments, and for purchase of equipment or supplies for volunteers on assignment.

DATES: These amendments are effective as of April 19, 2004.

FOR FURTHER INFORMATION CONTACT: Peter L. Boynton, 202-606-5000, ext. 499.

SUPPLEMENTARY INFORMATION: The Corporation published a notice of proposed rulemaking (NPRM) for the Retired and Senior Volunteer Program, 45 CFR part 2553, in the Federal Register at 69 FR 6228, dated February 10, 2004.

Summary of Main Comments

In response to the Corporation's invitation in the notice of proposed rulemaking, the Corporation received 12 responses addressing the proposed amendments to the Retired and Senior Volunteer Program rules. 11 responses expressed support for the proposed amendments, and one expressed partial support. Reasons for favoring the amendments included: (a) The need for flexibility for an RSVP project to run its own programs; (b) creation of more options for volunteer placement; (c) improved ability to meet certain community needs; and (d) transportation needs and costs in rural areas. Related comments and the Corporation's responses follow:

Comment: Grantees should not be allowed to use project funds to pay for assignment-related equipment and supplies used by volunteers; these should remain the responsibility of the volunteer station.

Response: Under the modified regulation, grantees are free to establish their own policies regarding which assignment-related expenses volunteer stations must be responsible under the memorandum of understanding between the grantee and the volunteer station.

Comment: The requirement to specify each expense in the Memorandum of Understanding (MOU) may impose additional administrative burden on the grantee and the volunteer station.

Response: Since the MOU is the document that defines the respective responsibilities of the grantee and the volunteer station, the Corporation believes it is the appropriate document in which to describe the expenses for which each party to the MOU is responsible.

Impact of Various Acts and Executive Orders

After carefully reviewing the changes implemented by this amendment, and after coordination with the Office of Management and Budget, it was determined that:

(1) This was a significant regulatory action under section 3(f)(4) of Executive Order 12866 “Regulatory Planning and Review,” and required a review by the Office of Management and Budget;

(2) The Corporation hereby certifies that the Regulatory Flexibility Act does not apply because there is no “significant economic impact on a substantial number of small entities”;

(3) That the Unfunded Mandates Reform Act of 1995 (2 U.S.C. chapter 25, subchapter II) does not apply because the amendment does not result in any annual expenditures of $100 million by State, local, Indian tribal governments or the private sector;

(4) That the Paperwork Reduction Act does not apply because the amendments do not impose any additional reporting or record-keeping requirements;

(5) That the Small Business Regulatory Enforcement Fairness Act of 1996 does not apply because it is not a major rule as defined by section 251 of the Small Business Regulatory Enforcement Fairness Act of 1996, and would not result in an annual effect on the economy of $100 million or more; result in an increase in cost or prices; or have significant adverse effects on competition, employment, investment, productivity, innovation, or on the ability of United States-based companies to compete with foreign-based companies in domestic and export markets; and

(6) That Executive Order 13132, “Federalism” does not apply because it would not have substantial direct effects on the States or the relationship between the national government and the States.

List of Subjects in 45 CFR Part 2553

Aged, Grant programs—social programs, Volunteers.

For the reasons set forth in the preamble, the Corporation for National and Community Service amends 45 CFR part 2553 as follows:

PART 2553—THE RETIRED AND SENIOR VOLUNTEER PROGRAM

1. The authority citation for part 2553 continues to read as follows:

Authority: 42 U.S.C. 4950 et seq.

2. In § 2553.43, add a new paragraph (e) to read as follows:

§ 2553.43 What cost reimbursements are provided to RSVP volunteers?

* * * * *

(e) Other volunteer expenses. RSVP volunteers may be reimbursed for expenses incurred while performing their volunteer assignments provided these expenses are described in the Memorandum of Understanding negotiated with the volunteer station to which the volunteer is assigned.

§ 2553.73 [Amended]

3. In § 2553.73, remove paragraph (d) and redesignate paragraphs (e) through (i) as paragraphs (d) through (h).

Dated: April 7, 2004.
Tess Scannell,
Director, National Senior Service Corps.

[FR Doc. 04-8403 Filed 4-16-04; 8:45 am]

BILLING CODE 6050-$$-P